DEPARTMENT OF THE INTERIOR

National Park Service

[NPS-WASO-NRSS-EQD-SSB-16970; PPWONRADA0, PPMRSNR1Y.NA0000]

Proposed Information Collection; Comment Request: Visibility Valuation Survey

AGENCY: National Park Service, Interior.

ACTION: Notice and request for comments.

SUMMARY: We (National Park Service) will ask the Office of Management and Budget (OMB) to approve the Information Collection Request (ICR) described below. The National Park Service (NPS) is requesting approval for a new collection that will be used to provide data that will be used to estimate the value of visibility changes in national parks and wilderness areas. To comply with the Paperwork Reduction Act of 1995 and as a part of our continuing efforts to reduce paperwork and respondent burden, we invite the general public and other Federal agencies to comment on this ICR. A Federal agency may not conduct or sponsor and a person is not required to respond to a collection of information unless it displays a currently valid OMB control number.

DATES: To ensure that your comments on this ICR are considered, OMB must receive them on or before November 28, 2014.

ADDRESSES: Please submit written comments on this information collection directly to the Office of Management and Budget (OMB) Office of Information and Regulatory Affairs, Attention: Desk Officer for the Department of the Interior, via email to OIRA_Submission@omb.eop.gov or fax at 202-395-5806; and identify your submission as 1024-0255. Please also send a copy of your comments to Phadrea Ponds, Information Collection Coordinator, National Park Service, 1201 Oakridge Drive, Fort Collins, CO 80525 (mail); or phadrea_ponds@nps.gov (email). Please reference Information Collection Request 1024-0255 in the subject line.

FOR FURTHER INFORMATION CONTACT: Susan Johnson, National Park Service Air Resources Division, U.S. National Park Service, 12795 W. Alameda Parkway, P.O. Box 25287, Denver, Colorado 80225 (mail); Susan_Johnson@nps.gov (email). You may also access this ICR at www.reginfo.gov.

I. Abstract

On June 19, 2012, the Office of Management and Budget approved a pilot study of visibility improvement valuation in non-urban national parks and wilderness areas. The goal was to test and refine the survey instruments to be able to provide practical utility and generalizability of the final survey. The National Park Service (NPS) is requesting approval of this Information Collection Request (ICR) that will be used to administer a national visibility valuation mail survey. The collection will be used to provide the NPS information needed to evaluate the benefits of programs that may improve visibility conditions in non-urban National Parks and wilderness areas.

II. Data

OMB Control Number: 1024-0255.

Title: Visibility Valuation Survey.

Type of Request: Reinstatement of OMB Control Number 1024-0255.

Affected Public: General Public; Individual Households.

Respondent Obligation: Voluntary.

Frequency of Collection: One time.

Estimated Number of Annual Responses: 9,760.

Estimated Annual Burden Hours: 3,803 hours.

Estimated Annual Reporting and Recordkeeping “Non-Hour Cost”: None.

III. Request for Comments

On November 13, 2013, we published a Federal Register notice (78 FR 68089) announcing that we would submit this ICR to OMB for approval. Public comments were solicited for 60 days ending January 13, 2014. We received one request for additional information concerning the survey. In response to this request, we provided a summary of the study purpose and design. No other public comments were received.

We again invite comments concerning this ICR on: (1) Whether or not the proposed collection of information is necessary for the agency to perform its duties, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: October 16, 2014.
Madonna L. Baucum,
Information Collection Clearance Officer, National Park Service.

[FR Doc. 2014-25580 Filed 10-27-14; 8:45 am]

BILLING CODE 4310-EH-P